DEPARTMENT OF ENERGY

Federal Energy Regulatory Commission

[Docket No. RP00-238-000]

Columbia Gulf Transmission Company; Notice of Proposed Changes in FERC Gas Tariff

April 4, 2000.

Take notice that on March 31, 2000, Columbia Gulf Transmission Company (Columbia Gulf), tendered for filing as part of its FERC Gas Tariff, Second Revised Volume No. 1, the following revised tariff sheets with a proposed effective date of May 1, 2000:

Fourth Revised Sheet No. 144

First Revised Sheet No. 144A

Fifth Revised Sheet No. 145

Third Revised Sheet No. 145A

Third Revised Sheet No. 147

Columbia Gulf states that it is making this filing to revise its tariff to comply with the Commission's changes in its Order No. 637 to the right-of-first-refusal (ROFR) afforded certain firm shippers in 18 C.F.R. Section 284.221(d)(2)(ii). In Order No. 637, the Commission revised the ROFR to limit its applicability. Columbia Gulf is revising General Terms and Conditions (GTC), Section 4, which contains the procedures for the awarding of existing firm capacity and the exercise of the ROFR on Columbia Gulf, to reflect these changes.

Columbia Gulf states that copies of its filing have been mailed to all firm customers, interruptible customers, and affected state commissions.

Any person desiring to be heard or to protest said filing should file a motion to intervene or a protest with the Federal Energy Regulatory Commission, 888 First Street, N.E., Washington, D.C. 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

Linwood A. Watson, Jr.,
Acting Secretary.

[FR Doc. 00-8764 Filed 4-7-00; 8:45 am]

BILLING CODE 6717-01-M